DEPARTMENT OF STATE

[Public Notice: 12432]

Notice of Public Meeting in Preparation for International Maritime Organization Council 132 Meeting

The Department of State will conduct a public meeting at 1:00 p.m. on Tuesday, July 2, 2024, both in-person at Coast Guard Headquarters in Washington, DC, and via teleconference. The primary purpose of the meeting is to prepare for the 132nd session of the International Maritime Organization's (IMO) Council (C 132) to be held in London, United Kingdom from Monday, July 8, 2024, to Friday July 12, 2024.

Members of the public may participate up to the capacity of the teleconference phone line, which can handle 500 participants or up to the seating capacity of the room if attending in person. The meeting location will be the United States Coast Guard Headquarters, 5PS Conference Room, and the teleconference line will be provided to those who RSVP. To RSVP, participants should contact the meeting coordinator, LT Emily Rowan, by email at Emily.K.Rowan@uscg.mil. LT Rowan will provide access information for in-person and virtual attendance.

The agenda items to be considered by the advisory committee at this meeting mirror those to be considered at Council 132, and include:

—Adoption of the agenda

—Report of the Secretary-General on credentials

—Rules of Procedure

—Strategy, planning and reform

—Resource Management

—Results-based budget for 2024-2025

—Consolidated text of the IMO Convention

—IMO Member State Audit Scheme

—Enhancement of GISIS

—Report of the Facilitation Committee

—Report of the Legal Committee

—Report of the Marine Safety Committee

—Report of the Marine Environmental Protection Committee

—Report of the Technical Cooperation Committee

—Protection of vital shipping lanes

—External relations

—Hybrid meeting capabilities

—Voluntary Multi-donor Trust Fund to facilitate the participation of developing countries, especially small island developing States (SIDS) and least developed countries (LDCs) in IMO meetings

—Report on the status of the conventions

—Place, date and duration of the next session of the Council (C 133)

—Supplementary agenda items, if any

Please note: the IMO may, on short notice, adjust the C 132 agenda to accommodate the constraints associated with the meeting format. Any changes to the agenda will be reported to those who RSVP.

Those who plan to participate should contact the meeting coordinator, LT Emily Rowan, by email at Emily.K.Rowan@uscg.mil, or in writing at 2703 Martin Luther King Jr. Ave. SE, Stop 7509, Washington, DC 20593-7509, by June 25, 2024. Members of the public needing reasonable accommodation should advise the meeting coordinator not later than June 25, 2024. Requests made after that date will be considered but might not be possible to fulfill.

Additional information regarding this and other IMO public meetings may be found at: https://www.dco.uscg.mil/IMO.

(Authority: 22 U.S.C. 2656 and 5 U.S.C. 552.)

Leslie W. Hunt,
Coast Guard Liaison Officer, Office of Ocean and Polar Affairs, Department of State.

[FR Doc. 2024-13187 Filed 6-14-24; 8:45 am]

BILLING CODE 4710-09-P